DEPARTMENT OF STATE

[Public Notice 6383]

Department of State Performance Review Board Members

In accordance with section 4314(c)(4) of 5 United States Code, the Department of State has appointed the following individuals to the Department of State Performance Review Board for career Senior Executive Service members:

Alexander A. Arvizu, Deputy Assistant Secretary, Bureau of East Asian and Pacific Affairs, Department of State; (Outside Member);

Linda Jacobson, Assistant Legal Adviser, Office of the Legal Adviser, Department of State;

Susan H. Swart, Chief Information Officer, Bureau of Information Resource Management, Department of State; (Outside Member);

Linda S. Taglialatela, Deputy Assistant Secretary, Bureau of Human Resources, Department of State; and

James E. Tyckoski, Office Director, Office of Resource Planning and Budget, Bureau of Resource Management, Department of State.

Dated: September 17, 2008.
Harry K. Thomas, Jr.,
Director General of the Foreign Service and Director of Human Resources, Department of State.

[FR Doc. E8-23570 Filed 10-3-08; 8:45 am]

BILLING CODE 4710-05-P